DEPARTMENT OF ENERGY

Federal Energy Regulatory Commission

[Docket No. CP96-583-002]

Kinder Morgan Texas Pipeline, L.P.; Notice of Application

July 17, 2002.

Take notice that on July 3, 2002, Kinder Morgan Texas Pipeline, L.P. (KMTP), 500 Dallas Street, Suite 1000, Houston, Texas 77002, filed an application in Docket No. CP96-583-002, as supplemented on July 15, 2002, pursuant to section 3 of the Natural Gas Act (NGA) and Part 153 of the Commission's regulations, seeking to amend the Section 3 authorization and Presidential Permit previously issued on November 26, 1996, and December 17, 1997,¹ all as more fully set forth in the application. Copies of this filing are on file with the Commission and are available for public inspection. This filing may also be viewed on the Web at http://www.ferc.gov using the “RIMS” link, select “Docket #” and follow the instructions (call 202-208-2222 for assistance).

¹ MidCon Texas Pipeline Corp., 77 FERC ¶ 61,205 (1996); MidCon Texas Pipeline Operator, Inc., 81 FERC ¶ 61,326 (1997). KMTP's former name is MidCon Texas Pipeline Operator, Inc.

KMTP requests that the Commission grant the requested authorization in time to allow construction of the border crossing facility to commence by the end of the third quarter of 2002.

Any questions concerning this application may be directed to Philip R. Telleen, 747 East 22nd Street, Lombard, Illinois 60148, phone (630) 691-3749 or fax (630) 691-3628.

KMTP states that is has been authorized to construct border crossing facilities, near Salineno in Starr County, Texas, that will link a Texas intrastate pipeline with a new pipeline system in Mexico to serve increasing market demand in Mexico. KMTP seeks amended authorization to: (1) Increase the size of KMTP's planned border crossing pipeline from 24-inch to 30-inch diameter pipe, thereby increasing its design capacity from 270 MMcfd to 375 MMcfd; (2) eliminate the previously authorized dual 12-inch meter as part of the border crossing facilities; and (3) redefine the border crossing facilities as extending 878 feet to the middle of the Rio Grande River.

KMTP states that the currently authorized pipeline and metering facilities have not been constructed. In this amendment, KMTP is proposing to increase the pipeline diameter size of the border crossing facility so that it will be the same size as both the upstream and downstream interconnecting facilities. In addition, because the meter will be constructed on the Mexico pipeline facilities rather than as part of the proposed border crossing facilities, the border crossing facilities will extend 878 feet from the location where the directional drill will begin to the International Border at the middle of the river. KMTP estimates the cost of the border crossing facilities (without the meter) to be approximately $500,000.

There are two ways to become involved in the Commission's review of this project. First, any person wishing to obtain legal status by becoming a party to the proceedings for this project should, on or before August 7, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-18533 Filed 7-22-02; 8:45 am]

BILLING CODE 6717-01-P